DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2005 Census Survey of Maricopa County, Arizona.

Form Number(s): CSMA-1, CSMA-1(PV), CSMA-1 L1, CSMA-1 L2, CSMA-1 L3, CSMA-2, CSMA-1(RI), SC-116, and SC-351(GQ).

Agency Approval Number: None.

Type of Request: New collection.

Burden: 12,042 hours.

Number of Respondents: 118,607.

Avg. Hours Per Response: Housing Units—6 min.; Group Quarters—10 min.; Reinterview—8 min.

Needs and Uses: In lieu of a Special Census, the Maricopa Association of Governments (MAG), at the request of their member jurisdictions (24 cities and towns within Maricopa County), requested the U.S. Census Bureau to conduct a data collection effort for the purpose of updating population and housing unit information from the Census 2000. This data collection effort is called the 2005 Census Survey of Maricopa County, Arizona (CSMA). The CSMA will produce September 1, 2005 estimates for housing units, occupied housing units, resident population; resident population living in housing units; and resident population not living in housing units (group quarters and outdoor locations) for Maricopa County, 24 cities in the county, the balance of the county, 5 sub-areas for Phoenix, and 2 sub-areas for Mesa. The resident population estimates will be used to distribute state-shared revenues.

The MAG requested that we produce the estimates by a survey of housing units and a 100 percent enumeration of the non-housing unit population.

The Census Bureau will conduct a survey of housing units to produce the estimates for resident population in housing units, the number of housing units, and the number of occupied housing units. We will contact each identified group quarters and visit outdoor locations to obtain the resident population not living in housing units. We will sum the two resident populations to produce the total number of residents.

We will mail each sample housing unit a questionnaire to determine whether it was occupied on September 1, 2005. If it was occupied, we will ask for the total number of people living in the housing unit and for each person's name, age, and sex. We will follow-up with each housing unit that does not return its questionnaire and conduct either a computer assisted telephone interview or a personal visit interview. We will use a vendor's data base to obtain phone numbers by matching on the address.

We will have a reinterview program for the cases completed by personal visit. The reinterview program will contact approximately ten percent of the personal visit cases to check the enumerators' work. Reinterview is necessary to deter the falsification of data by enumerators in the field. Its primary purpose is to identify enumerators who intentionally falsify data, and to promptly remove them. Reinterview is also used for quality assurance purposes to ensure that enumerators are following procedures correctly, and to retrain those who are not.

Affected Public: Individuals or households; business or other for-profit; not-for-profit institutions.

Frequency: One time.

Respondent's Obligation: Voluntary.

Legal Authority: 13 U.S.C. 8.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: February 16, 2005.
Madeleine Clayton,
Management Analyst, Office of the Chief Information Officer.

[FR Doc. 05-3390 Filed 2-22-05; 8:45 am]

BILLING CODE 3510-07-U